DEPARTMENT OF HOMELAND SECURITY

Coast Guard

[Docket Number USCG-2024-0383]

Cooperative Research and Development Agreement: Payload Incorporated With Computer Vision and Machine Learning

AGENCY: Coast Guard, DHS.

ACTION: Notice of intent; request for comments.

SUMMARY: The Coast Guard is announcing its intent to enter into a Cooperative Research and Development Agreement (CRADA) with AeroVironment, Inc. to evaluate payload(s) that can accelerate autonomy to fielded assets and uncrewed platforms, and automated overhead imagery analysis tool software. The Coast Guard is currently considering partnering with AeroVironment, Inc. to investigate their payload that seamlessly integrates with current AeroVironment UAS in use by the Coast Guard and solicits public comment on the possible participation of other parties in the proposed CRADA, and the nature of that participation. While the Coast Guard is currently considering partnering with AeroVironment, Inc., we are soliciting public comment on the possible nature of and participation of other parties in the proposed CRADA. In addition, the Coast Guard also invites other potential Federal participants, who have the interest and capability to bring similar contributions to this type of research, to consider submitting proposals for consideration in similar CRADAs.

DATES: Your comments and related material must reach the Coast Guard on or before July 26, 2024.

ADDRESSES: You may submit comments identified by docket number USCG-2024-0383 using the Federal portal at https://www.regulations.gov. See the “Public Participation and Request for Comments” portion of the SUPPLEMENTARY INFORMATION section for further instructions on submitting comments.

FOR FURTHER INFORMATION CONTACT: If you have questions about this notice of intent, call or email Ms. Shelly Wyman, U.S. Coast Guard Research and Development Center; telephone 860-271-2600, email RDC-info@uscg.mil.

SUPPLEMENTARY INFORMATION:

I. Table of Abbreviations

CRADA Cooperative Research and Development Agreement

DHS Department of Homeland Security

MDA Maritime Domain Awareness

U.S.C. United States Code

II. Background and Purpose

The Coast Guard Research and Development Center (R&D Center) is the Coast Guard's sole facility performing research, development, and test and evaluation in support of the service's major missions. The R&D Center supports the evaluation of feasibility and affordability of mission execution solutions. When appropriate, the R&D Center collaborates with relevant professionals in the public and private sectors on technology evaluation and/or technology advancement.

Persistent surveillance can be defined as a collection strategy that emphasizes the ability of some collection systems to linger on demand in an area to detect, locate, characterize, identify, track, target, in near or real-time. Persistent surveillance requires an operationally focused surveillance approach that uses a full range of strategic, operational, and tactical collection methods to dwell on and revisit a target.

In the Coast Guard Strategic Plan, rapidly advancing technologies, including those in uncrewed platforms, data analytics, artificial intelligence, and machine learning need to be harnessed for possible use in mission execution. The ability to detect, locate, characterize, identify, and track people or objects in the water in near or real-time and to apply that technology to Coast Guard sensors and systems has the potential to improve mission support to meet the needs of the Coast Guard today and in the foreseeable future.

In the Coast Guard Strategic Plan, two major goals are to direct efforts to encourage developing innovative ways to increase delivery and efficiency of mission support functions; and to strengthen or expedite acquisition process to adopt new technologies that will enhance frontline operations. The ability to enhance our existing systems to incorporate innovative track processing capabilities that may incorporate computer vision and/or machine learning technology for search and rescue missions may greatly increase mission performance on select platforms and improve Maritime Domain Awareness (MDA).

III. Public Participation and Request for Comments

We request public comments on this notice. Although we do not plan to respond to comments in the Federal Register, we will respond directly to commenters and may modify our proposal in light of comments.

We encourage you to submit comments in response to this notice of inquiry through the Federal Decision Making portal at https://www.regulations.gov. To do so, go to https://www.regulations.gov, type USCG-2024-0383 in the search box and click “Search.” Next, look for this document in the Search Results column, and click on it. Then click on the Comment option. In your submission, please include the docket number for this notice of intent and provide a reason for each suggestion or recommendation. If your material cannot be submitted using https://www.regulations.gov, contact the person in the FOR FURTHER INFORMATION CONTACT section of this document for alternate instructions. To view documents mentioned in this notice of intent as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive.

We accept anonymous comments. Comments we post to https://www.regulations.gov will include any personal information you have provided. For more about privacy and submissions in response to this document, see DHS's eRulemaking System of Records notice (85 FR 14226, March 11, 2020).

IV. Discussion

Cooperative Research and Development Agreements (CRADAs) are authorized under 15 U.S.C. 3710a.¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other type of agreements.

Under the proposed CRADA, the R&D Center will collaborate with one non-Federal participant. Together, the R&D Center and the non-Federal participant will evaluate payloads and software incorporating computer vision and machine learning systems designed for autonomous detection and tracking to determine their potential for search and rescue planning that may greatly increase mission performance on select USCG platforms and improve MDA capability.

We anticipate that the Coast Guard's contributions under the proposed CRADA will include the following:

1. In conjunction with the non-Federal participant(s), develop the demonstration a test plan to be executed under the CRADA;

2. Provide access to and coordinate the use of necessary Coast Guard facilities, surface assets, and R&D Center equipment to facilitate assessments and ensure that all necessary approvals have been obtained before the execution of the test plan;

3. Collaboratively collect and analyze demonstration test plan data; and

4. Collaboratively develop a summary documenting the findings, conclusions, and recommendations of this CRADA work.

We anticipate that the non-Federal participants' contributions under the proposed CRADA will include the following:

1. Provide and integrate the payload and imagery software equipment to conduct the demonstration described in the demonstration test plan;

2. Provide engineering support, including all required operators and technicians to conduct the demonstration

3. Provide shipment and delivery of all payload and software equipment required for the demonstration;

4. Provide travel and associated personnel and other expenses as required; and

5. Assist with compiling the results of the demonstration(s) with the R&D Center that documents the findings, conclusions, and recommendations under this CRADA

The Coast Guard reserves the right to select for CRADA participants all, some, or no proposals submitted for this CRADA. The Coast Guard will provide no funding for reimbursement of proposal development costs. Proposals and any other material submitted in response to this notice will not be returned. Proposals submitted are expected to be unclassified and have not more than five single-sided pages (excluding cover page, DD 1494, JF-12, etc.). The Coast Guard will select proposals at its sole discretion on the basis of:

1. How well they communicate an understanding, of and ability to meet, the proposed CRADA's goal; and

2. How well they address the following criteria:

a. Technical capability to support the non-Federal party contributions described, and

b. Resources available for supporting the non-Federal party contributions described.

Currently, the Coast Guard is considering AeroVironment, Inc. for participation in this CRADA. This consideration is because AeroVironment Inc. has a solution in place that is designed for seamless integration with existing R&D Center systems with potential for increased mission performance. However, we do not wish to exclude other viable participants from this or similar CRADAs in the future.

This is a technology assessment effort. The goal of the Coast Guard for this CRADA is to evaluate new payloads on current systems in conjunction with software tools using computer vision and machine learning models to determine how they can be utilized in the field, while providing user feedback and use cases in a maritime environment. The software tools can not only utilize AV optical sensors but also pull additional input from other optical sensors across multiple platforms that have feeds with different inputs and resolutions, as well as connect everything to a common operating picture. The ability for the equipment to locate, characterize, identify, and track objects in the water in different scenarios will be tested. Special consideration will be given to small business firms and consortia, and preference will be given to business units located in the U.S.

This notice is issued under the authority of 5 U.S.C. 552(a).

Dated: June 20, 2024.
M.P. Chien,
Captain, Commanding Officer, U.S. Coast Guard Research and Development Center.

[FR Doc. 2024-13926 Filed 6-25-24; 8:45 am]

BILLING CODE 9110-04-P